DEPARTMENT OF THE INTERIOR

Fish and Wildlife Service

50 CFR Part 17

[Docket No. FWS-R2-ES-2021-0044; FXES11130200000-212-FF02ENEH00]

RIN 1018-BE47

Endangered and Threatened Wildlife and Plants; Technical Corrections for 18 Southwestern United States Species Found in Arizona, New Mexico, and Texas

AGENCY: Fish and Wildlife Service, Interior.

ACTION: Direct final rule.

SUMMARY: We, the U.S. Fish and Wildlife Service (Service), announce the revised taxonomy of nine wildlife and nine plant species under the Endangered Species Act of 1973, as amended (ESA). We are revising the List of Endangered and Threatened Wildlife and the List of Endangered and Threatened Plants (“the Lists”) to reflect the current scientifically accepted taxonomy and nomenclature for these species that occur in the southwestern United States. We are also correcting errors in the Lists made in previous publications. The taxonomic revisions and correction of publication errors are editorial in nature and involve no substantive changes to the Lists or any applicable regulations.

DATES: This rule is effective February 24, 2022 without further action, unless significant adverse comment is received by December 27, 2021. If significant adverse comment is received, we will publish a timely withdrawal of the relevant portions of the rule in the Federal Register.

ADDRESSES: You may submit comments by one of the following methods:

• Electronically: Go to the Federal eRulemaking Portal: https://www.regulations.gov. Follow the instructions for submitting comments to FWS-R2-ES-2021-0044, which is the docket number for this rulemaking.

• By hard copy: Submit comments by U.S. mail to: Public Comments Processing, Attn: FWS-R2-ES-2021-0044, U.S. Fish and Wildlife Service, MS: PRB/3W, 5275 Leesburg Pike, Falls Church, VA 22041-3803.

See Public Comments, below, for more information about submitting comments.

FOR FURTHER INFORMATION CONTACT:

Common name | Contact person
golden-cheeked warbler Government Canyon Bat Cave spider. Texas blind salamander. Tooth Cave spider. Nellie's cory cactus. Lloyd's Mariposa cactus. white bladderpod. Zapata bladderpod. Texas snowbells. | Adam Zerrenner, 512-490-0057 (phone), or Adam_Zerrenner@fws.gov (email).
Gulf Coast jaguarundi | Chuck Ardizzone, 281-286-8282 (phone), or Chuck_Ardizzone@fws.gov (email).
Yuma clapper rail (=Yuma Ridgway's rail) Arizona hedgehog cactus. Fickeisen plains cactus. Peebles Navajo cactus. | Jeff Humphrey, 602-242-0210 (phone) or Jeff_Humphrey@fws.gov (email).
Sinaloan jaguarundi Sonoran tiger salamander. Mount Graham red squirrel. | Julie McIntyre, 520-670-6150 (phone), or Julie_McIntyre@fws.gov (email).
San Francisco Peaks ragwort | Shaula Hedwall, 928-556-2118 (phone), or Shaula_Hedwall@fws.gov (email).

Individuals who are hearing impaired or speech impaired may call the Federal Relay Service at 800-877-8337 for TTY (telephone typewriter or teletypewriter) assistance 24 hours a day, 7 days a week.

SUPPLEMENTARY INFORMATION:

Public Comments

You may submit your comments and materials regarding the taxonomic revisions, identified below in Table 1, by one of the methods listed in ADDRESSES. Please include sufficient information with your comments that will allow us to verify any scientific or commercial information you include. We will not consider comments sent by email or fax, or to an address not listed in ADDRESSES.

We will post all comments on https://www.regulations.gov. Before including your address, phone number, email address, or other personal information in your comment, you should be aware that your entire comment—including your personal identifying information—may be made publicly available at any time. While you can ask us in your comment to withhold your personal identifying information from public review, we cannot guarantee that we will be able to do so.

Comments and materials we receive, as well as supporting documentation we used in preparing this direct final rule, will be available for public inspection on the internet at https://www.regulations.gov. Please note that comments posted to https://www.regulations.gov are not immediately viewable. When you submit a comment, the system receives it immediately. However, the comment will not be publicly viewable until we post it, which might not occur until several days after submission. Information regarding this rule is available in alternative formats upon request (see FOR FURTHER INFORMATION CONTACT).

Background

The List of Endangered and Threatened Wildlife and the List of Endangered and Threatened Plants (“the Lists”), set forth in title 50 of the Code of Federal Regulations (CFR) at §§ 17.11 and 17.12, respectively, contain the names of endangered species and threatened species federally listed pursuant to the ESA (16 U.S.C. 1531 et seq.).

The regulations at 50 CFR 17.11(c) and 17.12(b) direct us to use the most recently accepted scientific name of any wildlife or plant species, respectively, that we have determined to be an endangered or threatened species.

Purpose of Direct Final Rule and Final Action

The purpose of this direct final rule is to notify the public that we are revising the Lists at 50 CFR 17.11(h) and 17.12(h) to reflect the scientifically accepted taxonomy and nomenclature of nine wildlife species and nine plant species listed under section 4 of the ESA. These revisions reflect the most recently accepted scientific nomenclature in accordance with 50 CFR 17.11(c) and 17.12(b).

We are publishing this rule without a prior proposal because this is a noncontroversial action that is in the best interest of the public and should be undertaken in as timely a manner as possible. For the taxonomic revisions provided below in Table 1, this rule will be effective, as published in this document, on the effective date specified in DATES, unless we receive significant adverse comments on or before the comment due date specified in DATES. Significant adverse comments are comments that provide strong justification as to why this rule should not be adopted or why it should be changed.

If we receive significant adverse comments regarding the taxonomic changes for any of the species included in Table 1, below, we will publish a document in the Federal Register withdrawing this rule for the appropriate species before the effective date, and we will publish a proposed rule to initiate promulgation of those changes to 50 CFR 17.11(h) and/or 17.12(h).

In addition, we are notifying the public that we have identified editorial errors in the Lists, and they will be corrected on the effective date of this rule (see DATES, above). The identified errors are provided below in Table 2. While you may submit comments by one of the methods listed in ADDRESSES on the corrections provided below in Table 2, we consider these corrections purely administrative, and we intend to make these editorial corrections on the effective date of this rule.

None of these changes are regulatory in nature; they are for accuracy and clarity. These revisions do not alter species' protections or status in any way. Any actions altering a species' protection or status would require a separate rulemaking action following the procedures of 50 CFR part 424.

Summary Tables of Taxonomic Changes and Editorial Corrections

Table 1 provides taxonomic changes we are making to reflect the scientifically accepted taxonomy and nomenclature of nine wildlife and nine plant species listed under section 4 of the ESA. These changes reflect the most recently accepted scientific nomenclature in accordance with 50 CFR 17.11(c) and 17.12(b).

Table 1—Taxonomic Revisions to the Lists Reflecting the Current Scientifically Accepted Taxonomy and Nomenclature for These Species
Species name as currently listed | Corrected species name
Common name (scientific name) | Common name (scientific name)
§ 17.11 Endangered and threatened wildlife
Mammals
Gulf Coast jaguarundi (Herpailurus (=Felis) yagouaroundi cacomitli) | Gulf Coast jaguarundi (Puma yagouaroundi cacomitli).
Sinaloan jaguarundi (Herpailurus (=Felis) yagouaroundi tolteca) | Sinaloan jaguarundi (Puma yagouaroundi tolteca).
Mount Graham red squirrel (Tamiasciurus hudsonicus grahamensis) | Mount Graham red squirrel (Tamiasciurus fremonti grahamensis).
Birds
golden-cheeked warbler (Dendroica chrysoparia) | golden-cheeked warbler (Setophaga chrysoparia).
Yuma clapper rail (Rallus longirostris yumanensis) | Yuma Ridgway's rail (Rallus obsoletus yumanensis).
Amphibians
Sonoran tiger salamander (Ambystoma tigrinum stebbinsi) | Sonoran tiger salamander (Ambystoma mavortium stebbinsi).
Texas blind salamander (Typhlomolge rathbuni) | Texas blind salamander (Eurycea rathbuni).
Arachnids
Government Canyon Bat Cave spider (Neoleptoneta microps) | Government Canyon Bat Cave spider (Tayshaneta microps).
Tooth Cave spider (Neoleptoneta myopica) | Tooth Cave spider (Tayshaneta myopica).
Scientific name (common name) | Scientific name (common name)
§ 17.12 Endangered and threatened plants
Flowering Plants
Coryphantha minima (Nellie's cory cactus) | Escobaria minima (Nellie's cory cactus).
Echinomastus mariposensis (Lloyd's Mariposa cactus) | Sclerocactus mariposensis (Lloyd's Mariposa cactus).
Echinocereus triglochidiatus var. arizonicus (Arizona hedgehog cactus) | Echinocereus arizonicus ssp. arizonicus (Arizona hedgehog cactus).
Lesquerella pallida (white bladderpod) | Physaria pallida (white bladderpod).
Lesquerella thamnophila (Zapata bladderpod) | Physaria thamnophila (Zapata bladderpod).
Pediocactus peeblesianus var. fickeiseniae (Fickeisen plains cactus) | Pediocactus peeblesianus ssp. fickeiseniae (Fickeisen plains cactus).
Pediocactus peeblesianus var. peeblesianus (Peebles Navajo cactus) | Pediocactus peeblesianus ssp. peeblesianus (Peebles Navajo cactus).
Senecio franciscanus (San Francisco Peaks ragwort) | Packera franciscana (San Francisco Peaks ragwort).
Styrax texanus (Texas snowbells) | Styrax platanifolius ssp. texanus (Texas snowbells).

Table 2 identifies the editorial corrections we are making in this rule. Where Table 2 (and text) refers to the “2016 Reformatting” that means an August 24, 2016, final rule (81 FR 51550) that the Service published to update the format of the Lists. The purpose of the 2016 Reformatting was to make the Lists easier to understand by changing the format to reflect current practices and standards, to correct identified errors in entries such as footnotes and spelling, and to update common names, among other changes. Following publication of the 2016 Reformatting we identified editorial errors in the updated Lists. Where Table 2 refers to “68 FR 17156” that is the citation for the final rule designating critical habitat for seven Bexar County, Texas, invertebrates (68 FR 17156; April 8, 2003), which contained a spelling error and listing citation error.

Table 2—Editorial Corrections to the Lists
Current listed name | Error: Action | Correction
Wildlife:
Beetle, (no common name) [Rhadine exilis] | Error in 2016 Reformatting: Correct listing citation | 65 FR 81419, 12/26/2000; 50 CFR 17.95(i).CH
Beetle, (no common name) [Rhadine infernalis] | Error in 2016 Reformatting: Correct listing citation | 65 FR 81419, 12/26/2000; 50 CFR 17.95(i).CH
Helotes mold beetle (Batrisodes venyivi) | Error in 2016 Reformatting: Correct listing citation | 65 FR 81419, 12/26/2000; 50 CFR 17.95(i).CH
Braken Bat Cave meshweaver (Circurina venii) | Error in 68 FR 17156: Correct spelling error; error in 2016 Reformatting: Correct listing citation | Cicurina venii 65 FR 81419, 12/26/2000; 50 CFR 17.95(g).CH
Cokendolpher cave harvestman (Texella cokendolpheri) | Error in 2016 Reformatting: Correct listing citation | 65 FR 81419, 12/26/2000; 50 CFR 17.95(g).CH
Government Canyon Bat Cave meshweaver (Circurina vespera) | Error in 2016 Reformatting: Correct spelling error and listing citation | Cicurina vespera 65 FR 81419, 12/26/2000; 50 CFR 17.95(g).CH
Government Canyon Bat Cave spider (Neoleptoneta microps) | Error in 2016 Reformatting: Correct listing citation | 65 FR 81419, 12/26/2000; 50 CFR 17.95(g).CH
Koster's springsnail (Juturnia kosteria) | Error in 2016 Reformatting: Correct spelling error | Juturnia kosteri.
Loach minnow (Rhinichthys cobitis) | Error in 2016 Reformatting: Reflect correct taxonomic name | Tiaroga cobitis.
Madla Cave meshweaver (Cicurina madla) | Error in 2016 Reformatting: Correct listing citation | 65 FR 81419, 12/26/2000; 50 CFR 17.95(g).CH
Robber Baron Cave meshweaver (Cicurina baronia) | Error in 2016 Reformatting: Correct listing citation | 65 FR 81419, 12/26/2000; 50 CFR 17.95(g).CH
Yuma clapper rail (Rallus longirostris yumanensis) | Update common name | Yuma Ridgway's rail.
Plants:
Fickeisen plains cactus (Pediocactus peeblesianus var. fickeiseniae) | Error in 2016 Reformatting: Remove duplicate entry | Remove duplicate entry from the List.
Peebles Navajo cactus (Pediocactus peeblesianus var. peeblesianus) | Error in 2016 Reformatting: Add omitted entry | Restore omitted species entry to the List.

Description of Taxonomic Revisions and Editorial Corrections

Using the best available scientific information, this direct final rule documents taxonomic changes of the scientific names to three entries under “Mammals,” two entries under “Birds,” two entries under “Amphibians,” and two entries under “Arachnids” on the current List of Endangered and Threatened Wildlife (50 CFR 17.11(h)) and to nine entries under “Flowering Plants” on the current List of Endangered and Threatened Plants (50 CFR 17.12(h)). The basis for these taxonomic changes is supported by published studies in peer-reviewed journals. Accordingly, we revise the scientific names of these species under section 4 of the ESA and in accordance with 50 CFR 17.11(c) and 17.12(b).

Of the species that are the subjects of the taxonomic revisions in this rule, Mount Graham red squirrel, Government Canyon Bat Cave spider, San Francisco Peaks ragwort, Zapata bladderpod, and Fickeisen plains cactus have designated critical habitat. For clarity and consistency, in this direct final rule, we are revising the headings of the critical habitat designations to reflect the corrected scientific names for the following species: Mount Graham red squirrel at 50 CFR 17.95(a), Government Canyon Bat Cave spider at 50 CFR 17.95(g), and for the San Francisco Peaks ragwort, Zapata bladderpod, and Fickeisen plains cactus at 50 CFR 17.96(a).

Additionally, we are correcting errors noted in species' scientific names and Federal Register citations, updating common names, and correcting a duplication and an omission (see Table 2, above). These corrections are not regulatory in nature; they are administrative and for the purpose of clarity. The corrections do not alter species' protections or status; an action changing a species' protection or status would require a separate rulemaking following the procedures set forth at 50 CFR part 424.

Taxonomic Classification

Gulf Coast and Sinaloan Jaguarundi

The Gulf Coast jaguarundi (Herpailurus (=Felis) yagouaroundi cacomitli) and the Sinaloan jaguarundi (Herpailurus (=Felis) yagouaroundi tolteca), subspecies of the jaguarundi, a small cat ranging from Texas to Argentina, were listed as endangered in 1976 (June 14, 1976; 41 FR 24062). The jaguarundi was originally included in the genus Felis, and the Gulf Coast jaguarundi and the Sinaloan jaguarundi were originally listed under the ESA as Felis yagouaroundi cacomitli and Felis yagouaroundi tolteca, respectively (June 14, 1976; 41 FR 24062).

Later, genus classification was changed from Felis to Herpailurus (Wozencraft 1993, p. 291), and this widely accepted change was subsequently made to the ESA listing (August 4, 2016; 81 FR 51550). Thus, these subspecies are currently listed under the ESA as Herpailurus (=Felis) yagouaroundi cacomitli and Herpailurus (=Felis) yagouaroundi tolteca.

However, more recent genetic work assigns the jaguarundi to the genus Puma (Johnson and O'Brien 1997, pp. S110-S111; Johnson et al. 2006, p. 74), and this has become the generally accepted nomenclature (Wozencraft 2005, p. 545). The Service recognizes the Gulf coast jaguarundi and Sinaloan jaguarundi name changes to Puma yagouaroundi cacomitli and Puma yagouaroundi tolteca. respectively. This taxonomic change does not affect the range or endangered status of either the Gulf coast jaguarundi or Sinaloan jaguarundi.

Mount Graham Red Squirrel

The Mount Graham red squirrel (Tamiasciurus hudsonicus grahamensis) was listed as endangered on June 3, 1987 (52 FR 20994) and was considered a subspecies of the pine squirrel (Tamiasciurus hudsonicus; Steele 1998, p. 1). This subspecies occurs only in the highest elevations of the Pinaleño Mountains in southeastern Arizona.

Hope et al. (2016, p. 173) indicates that regional differences in evolutionary dynamics and continental gradients of complexity are reflected in three species of Tamiasciurus: T. douglasii, T. hudsonicus, and T. fremonti. Southwestern red squirrels, including the Mount Graham red squirrel, were assigned to a new species of red squirrel, T. fremonti (Hope et al. 2016, pp. 173, 179). Beginning in 2016, scientists researching the Mount Graham red squirrel acknowledged this new designation (e.g., Merrick and Koprowski 2016, p. 2) and began referring to the Mount Graham red squirrel as T. fremonti grahamensis (e.g., Gwinn and Koprowski 2016, p. 1). Tamiasciurus fremonti grahamensis is now the accepted species and subspecies name for the Mount Graham red squirrel by NatureServe (see https://explorer.natureserve.org/Taxon/ELEMENT_GLOBAL.2.101915/Tamiasciurus_fremonti_grahamensis), an organization that works with approximately 100 network organizations and over 1,000 conservation scientists to collect, aggregate, and standardize biodiversity statistics. The validity of the recognized T. fremonti grahamensis subspecies is not in question (Hope et al. 2016, entire).

Therefore, the Service recognizes the scientific name change for the Mount Graham red squirrel from Tamiasciurus hudsonicus grahamensis to Tamiasciurus fremonti grahamensis. These changes remain consistent with the latest scientific literature on or referencing the subspecies (e.g., Lynch 2018, p. 2; Goldstein et al. 2018, p. 67; Merrick et al. 2021, p. 2). This taxonomic change does not affect the range of, endangered status of, or critical habitat designation for the Mount Graham red squirrel.

Golden-Cheeked Warbler

The golden-cheeked warbler (Dendroica chrysoparia) was emergency listed as endangered, due to habitat destruction, on May 4, 1990 (55 FR 18844), and we published a final rule to list the golden-cheeked warbler as endangered on December 27, 1990 (55 FR 53153).

In 2011, the American Ornithologists' Union (AOU) adopted a new classification of the family Parulidae based on a phylogenetic analysis by Lovette et al. (2010, p. 763) that resulted in all Dendroica species being placed into a single clade for which the generic name Setophaga has taxonomic priority (Chesser et al. 2011, p. 608). The golden-cheeked warbler is now placed in the family Parulidae (new world warblers; wood-warblers) and the genus Setophaga (redstarts). Hereafter, the Service recognizes the golden-cheeked warbler as Setophaga chrysoparia, formerly placed in the genus Dendroica. This taxonomic change does not affect the range or endangered status of the golden-cheeked warbler.

Yuma Clapper Rail

The Yuma clapper rail (Rallus longirostris yumanensis) was listed as endangered on March 11, 1967 (32 FR 4001) and was considered a subspecies of the clapper rail (Rallus longirostris). This subspecies occurs in Arizona, California, Nevada, and Mexico.

Maley and Brumfield (2013, p. 318) better distinguished the phylogenetic relationships in the Rallus longirostris and Rallus elegans complexes using mitochondrial and nuclear gene sequences. Their results indicate that the Rallus elegans and Rallus longirostris complexes are paraphyletic, and the complex could be split into five morphologically and genetically distinct species, including Rallus obsoletus, Rallus tenuirostris, Rallus elegans, and Rallus crepitans (Maley and Brumfield 2013, p. 326). In 2014, the AOU accepted this proposed change, reorganizing the clapper rail (R. longirostris) and king rail (R. elegans) species complex and creating five distinct subspecies (Chesser et al. 2014, p. CSv). Under the new accepted taxonomy, the Yuma clapper rail became the Yuma Ridgway's rail (R. obsoletus yumanensis). The validity of the five currently recognized R. obsoletus subspecies is not in question (Maley and Brumfield 2013, entire; Chesser et al. 2014, p. CSv).

Therefore, the Service recognizes the scientific (and common name) change from Yuma clapper rail (Rallus longirostris yumanensis) to Yuma Ridgway's rail (R. obsoletus yumanensis). This taxonomic change does not affect the range or endangered status of this subspecies.

Sonoran Tiger Salamander

The Sonoran tiger salamander (Ambystoma tigrinum stebbinsi) was listed as endangered on January 6, 1997 (62 FR 665). This subspecies occurs in southern Arizona in the United States and in northern Sonora, Mexico.

Shaffer and McKnight (1996, Evolution 50: pp. 417-433) provided molecular phylogenetic data indicating that the eastern and western tiger salamanders should be regarded as distinct species and treated the western forms as subspecies of Ambystoma mavortium. Hallock (2005, in Jones, L.L.C., et al., pp. 30-33) placed northwestern populations in A. tigrinum. As a result, in 2008, the Society for the Study of Amphibians and Reptiles (SSAR) adopted a new scientific and common name for the species in Scientific and Common Names for Amphibians and Reptiles of North America North of México (SSAR 2008, pp. 1-84). The SSAR list is the most widely recognized standard for nomenclature of North American amphibians and reptiles.

Therefore, the Service recognizes the scientific name change from Ambystoma tigrinum stebbinsi to Ambystoma mavortium stebbinsi. This change remains consistent with the latest SSAR list of standard names (Crother, B.I. (ed.). 2017) and does not affect the range or endangered status of the Sonoran tiger salamander.

Texas Blind Salamander

The Texas blind salamander (Typhlomolge rathbuni) was listed as endangered on March 11, 1967 (32 FR 4001). This species occurs in the Edwards Aquifer near San Marcos, Texas. The taxonomic classification of Texas blind salamander in the genus Typhlomolge has been widely discussed and controversial (Mitchell and Reddell 1965, pp. 24-26; Potter and Sweet 1981, entire; Lombard and Wake 1986, entire; Chippindale et al. 2000, entire).

The Typhlomolge genus is characterized by extreme cave-associated morphologies (tiny non-functional vestiges of eyes, loss of pigmentation, long slender legs, and broad flattened head). Some researchers support that the Texas blind salamander is best related to species of Eurycea, which exhibit extreme troglobitic morphologies (Mitchell and Reddell 1965, pp. 24-26; Petraka 1998, pp. 272-273). Other scientists have suggested that members of Typhlomolge are sufficiently distinct from Edwards Plateau Eurycea to warrant recognition of the Typhlomolge genus (Wake 1966, pp. 51, 73-99; Potter and Sweet 1981, pp. 65-73). However, Chippindale's (1995, entire) more recent molecular phylogenetic evidence supports that the recognition of the genus Typhlomolge is not warranted. Further, the results of allozyme and mitochondrial DNA (mtDNA) testing of Texas blind salamander by Chippindale et al. (2000, pp. 20, 23-24) supports the taxonomic revision from the genus Typhlomolge to the genus Eurycea. Therefore, the Service recognizes the scientific name change from Typhlomolge rathbuni to Eurycea rathbuni. This taxonomic change does not affect the range or endangered status of this species.

Government Canyon Bat Cave Spider and Tooth Cave Spider

The Government Canyon Bat Cave spider (Neoleptoneta microps) is a small, troglobitic spider that inhabits caves and mesocaverns in Bexar County, Texas, and was listed as endangered on December 26, 2000 (65 FR 81419). In the original listing the Government Canyon Bat Cave spider was listed as the Government Canyon cave spider; although the common name was revised to the Government Canyon Bat Cave spider on April 8, 2003 (68 FR 17156). In addition, critical habitat was designated for the Government Canyon Bat Cave spider and Government Canyon Bat Cave meshweaver on February 14, 2012 (77 FR 8450).

The Tooth Cave spider (Neoleptoneta myopica) is a small, troglobitic spider that inhabits caves and mesocaverns in Travis and Williamson Counties, Texas. It was listed as endangered on September 16, 1988 (53 FR 36029). The Tooth Cave spider does not have designated critical habitat.

The Government Canyon Bat Cave spider and Tooth Cave spider were originally described as Leptoneta microps and Leptoneta myopica, respectively Gertsch (1974, pp. 168-169, 172-173). They were later reassigned to Neoleptoneta following Brignoli (1977, p. 216) and Platnick (1986, p. 15).

In a phylogenetic assessment, Ledford et al. (2011, entire) limited the genus Neoleptoneta to only include seven species restricted to central Mexico. The remaining species were placed in three new genera: (1) Chisoneta, (2) Ozarkia, and (3) Tayshaneta. The Government Canyon Bat Cave spider and Tooth Cave spider were transferred to Tayshaneta (Ledford et al. 2011, pp. 375-385). These taxonomic changes have been recognized by the World Spider Catalog (2019).

Therefore, we recognize the scientific names of the Government Canyon Bat Cave spider and Tooth Cave spider as Tayshaneta microps and Tayshaneta myopica, respectively. This does not affect the range or endangered status of these species, or the designated critical habitat of the Government Canyon Bat Cave spider.

Arizona Hedgehog Cactus

The Arizona hedgehog cactus (Echinocereus triglochidiatus var. arizonicus) was listed as endangered on November 26, 1979 (44 FR 61556). At that time, E. triglochidiatus included all red-flowered hedgehog cacti in the United States, resulting in a large group of highly morphologically variable species (Benson 1969, 1982; Taylor 1985 pp. 68-73). Since then, cytological (i.e., the study of chromosome numbers for classification) and morphological studies within E. triglochidiatus have led to separations of taxa based on ploidy levels (i.e., the number of copies of the complete genetic information; Parfitt and Christy 1992; Cota and Philbrick 1994; Baker 2006). The tetraploids (four homologous copies of each chromosome (4n)) are now recognized as E. coccineus Engelmann, and diploids (two homologous copies of each chromosome (2n)) are now recognized as either E. triglochidiatus or E. arizonicus Rose ex Orcutt (Blum et al. 1998, pp. 357-423; Zimmerman and Parfitt 2003, p. 168). In 1998, the Arizona hedgehog cactus was recognized as Echinocereus arizonicus subsp. arizonicus (Rose ex. Orcutt), formalizing E. arizonicus as an independent species separate from E. triglochidiatus and E. coccineus based on chromosome numbers, elevational range, and geographic distribution (Blum et al. 1998, p. 367-369; Zimmerman and Parfitt 2003, p. 168). This taxonomic treatment has been adopted by the Flora of North America (Zimmerman and Parfitt 2003, p. 168).

The Service recognizes the scientific name change of the Arizona hedgehog cactus to Echinocereus arizonicus ssp. arizonicus. This taxonomic change does not affect the range or endangered status of the Arizona hedgehog cactus.

Fickeisen Plains Cactus and Peebles Navajo Cactus

The Peebles Navajo cactus (Pediocactus peeblesianus var. peeblesianus) and Fickeisen plains cactus (Pediocactus peeblesianus var. fickeiseniae) are small, mostly solitary, spherical cacti endemic to northern Arizona. Both were classified as “varieties” when listed as endangered in 1979 (44 FR 61922; October 26, 1979) and 2013 (78 FR 60608; October 1, 2013), respectively.

In our 2013 listing rule, we acknowledged that the Flora of North America treated the Fickeisen plains cactus as a subspecies of Pediocactus peeblesianus, finding that the name “Pediocactus peeblesianus var. fickeiseniae” was not validly published by Lyman D. Benson (Heil and Porter 2003, p. 213). However, at that time, we and taxonomic organizations such as the Integrated Taxonomic Information Systems (ITIS) continued to treat the taxon as a variety, but we recognized the need for future taxonomic review.

More recently, the Flora of North America (Heil and Porter 2001, pp. 10-11; 2003, p. 213), ITIS (2019), and the broader botanical scientific community (Tropicos 2019) accepted subspecies rank for both Peebles Navajo cactus (Pediocactus peeblesianus ssp. peeblesianus) and Fickeisen plains cactus (Pediocactus peeblesianus ssp. fickeiseniae [=Pediocactus peeblesianus ssp. fickeiseniorum]; Lüthy 1999; ITIS 2019).

Because of the agreement throughout the scientific community, we recognize the Peebles Navajo cactus as Pediocactus peeblesianus ssp. peeblesianus and the Fickeisen plains cactus as Pediocactus peeblesianus ssp. fickeiseniae. These changes in nomenclature do not affect the range or endangered status of either cactus, or, for the Fickeisen plains cactus, its designated critical habitat.

Lloyd's Mariposa Cactus

On November 6, 1979, we listed Lloyd's mariposa cactus (Neolloydia mariposensis) as threatened, without critical habitat (44 FR 64247). Hester (1940) described this small cactus as a new species, Echinomastus mariposensis, based on specimens he collected near the Mariposa quicksilver mine, in Brewster County, Texas.

Botanists continue to recognize Lloyd's mariposa cactus as a distinct, valid species, but based on evolving phylogenetic interpretations have disagreed on the genera placement. Benson (1969) assigned species mariposensis to the genus Neolloydia; Glass and Foster (1975), Anderson (1986, 2001), Zimmerman (1985) and the Flora of North America (Zimmerman and Parfitt 2003) returned it to Echinomastus. Additional published classifications include Echinocactus (Weniger 1979), Sclerocactus (Taylor 1987), and Pediocactus (Halda 1998). However, more recently, Porter and Prince (2011) constructed a molecular phylogeny of a narrowly defined Sclerocactus, and related taxa, based on chloroplast DNA sequences using data from five independent investigations (Porter et al. 2000; Butterworth et al. 2002; Crozier 2005; Hernandez et al. 2011; Butterworth and Porter (in prep.)).

Although these studies examined different regions of chloroplast DNA, the results were completely congruent. On this basis, Porter and Prince (2011) recognized a monophyletic, though polymorphic, clade, in which Ancistrocactus, Echinomastus, and Toumeya are included in a broadly defined Sclerocactus genus; Echinomastus, as defined in the Flora of North America (Zimmerman and Parfitt 2003), is paraphyletic. Lloyd's mariposa cactus was assigned to Sclerocactus mariposensis in Section Andersonianus (Porter and Prince 2011, pp. 36-37, 58-59). We concur with this classification, which has also been accepted by the ITIS (2018) and Tropicos (2018). This revision does not affect the species' range or threatened status.

Nellie's Cory Cactus

On November 7, 1979, we listed Nellie's cory cactus (Coryphantha minima) as endangered, without critical habitat (44 FR 64738). Although botanists continue to recognize Nellie's cory cactus as a distinct, valid species, differing phylogenetic interpretations retain it in the genus Coryphantha, or place it in another closely related genus, Escobaria.

First described by Britton and Rose (1919-1923), Escobaria is distinguished from Coryphantha by pitted seed coats, fringed perianth parts, areoles that lack nectaries, and flowers that are not yellow (Anderson 2001); since Nellie's cory cactus has these characteristics, it belongs in the Escobaria group. Zimmerman (1985) and the Flora of North America (Zimmerman and Parfitt 2003) recognized Escobaria as a subgenus of Coryphantha that included C. minima. Conversely, Anderson (2001), the International Cactaceae Systematics Group (2006), the ITIS (2011), and Natural Resources Conservation Service (2011) recognized Escobaria as a full genus.

More recent phylogenetic studies based on DNA sequences (Butterworth 2010; Vázquez-Sánchez et al. 2013) indicate that Coryphantha sensu lato is not monophyletic. Although more data are needed to circumscribe Coryphantha and Escobaria, Nellie's cory cactus is more appropriately classified as Escobaria minima, based on the above described morphological characteristics. Thus, we recognize Nellie's cory cactus as Escobaria minima. This change does not affect the species' range or endangered status.

San Francisco Peaks Ragwort

San Francisco Peaks ragwort (Senecio franciscanus),was listed as threatened on November 22, 1983 (48 FR 52743), and is a dwarf alpine plant in the sunflower family that is found only on the talus slopes in the alpine zone on the San Francisco Peaks, north of Flagstaff. Based on morphological and cytological evidence, plants formerly described as Senecio that have pendant heads, branched and nonfleshy roots, and few teeth on the leaves are now described as the genus Packera, (Weber, WA and Á. Löve 1981). Weber and Löve (1981) are following the European botanists' generic circumscription of Senecio and the segregates.

The scientific name change from “Senecio franciscanus” to “Packera franciscana” is widely accepted by professionals and is the accepted name at the Deaver Herbarium at Northern Arizona University (Ayers 2007, pers. comm.). The Service recognizes the San Francisco Peaks ragwort as Packera franciscana. This taxonomic change does not affect the range, endangered status, or designated critical habitat of the San Francisco Peaks ragwort.

Texas Snowbells

On October 12, 1984, we listed Texas snowbells (Styrax texana) as endangered, without critical habitat(49 FR 40036). V.L. Cory described Styrax texana in 1943, which he distinguished from S. platanifolia and S. youngae based on differences in the trichomes (epidermal structures) of leaves and floral parts.

Gonsoulin (1974) revised the genus Styrax in North America, Central America, and the Caribbean. In Texas and Northeast Mexico, this treatment recognized S. texana, S. youngae, and S. platanifolia with two varieties, platanifolia and stellata. Fritsch's subsequent revision (Fritsch 1997) of the Styrax of West Texas, Mexico, and Mesoamerica recognized 19 species and 24 taxa, including 7 geographically and morphologically distinct subspecies of two species. Morphological, isozyme, and DNA sequence data indicated that five taxa of Texas and Northern Mexico are more closely related to each other than to other Styrax taxa and belong to a single species, S. platanifolius; following Nicolson and Steyskal (1976), Fritsch adopted the masculine gender for Styrax. This revision recognized five subspecies of S. platanifolius, distinguished by distinct regional differences in the morphology and abundance of trichomes: platanifolius, mollis, stellatus, texanus, and youngiae.

This treatment is currently recognized by the Flora of North America (Fritsch 2009), the ITIS (2018), Missouri Botanical Garden (Tropicos 2014), and the U.S. Department of Agriculture's Plants Database (Natural Resources Conservation Service 2014). In consideration of the broad acceptance of this most recent revision of American Styrax, we also recognize Texas snowbells as Styrax platanifolius ssp. texanus. This revision does not affect the species' range or endangered status.

White Bladderpod and Zapata Bladderpod

In 1987, we listed white bladderpod (Lesquerella pallida) as endangered (52 FR 7424; March 11, 1987). In 1999, we listed Zapata bladderpod (Lesquerella thamnophila) as endangered (64 FR 63745; November 22, 1999). Critical habitat was designated for Zapata bladderpod on December 22, 2000 (65 FR 81182); no critical habitat was designated for white bladderpod.

In 2002, Al-Shehbaz and O'Kane transferred 91 taxa of Lesquerella to the genus Physaria, including the species pallida and thamnophila, based on molecular, morphological, cytological, biogeographic, and ecological data. Genetic analyses, based on DNA sequences of the internal transcribed spacer of nuclear ribosomal DNA and length variation of inter-simple sequence repeat regions, revealed that Physaria, as previously recognized, was nested within and evolved more than once from Lesquerella. The former genus was polyphyletic, and the latter was paraphyletic. These authors united the two into a single monophyletic genus, conserving the earlier-published name of Physaria.

These taxonomic revisions are supported by the Flora of North America (O'Kane 2010), the ITIS (2015), and the Tropicos database (Tropicos 2015). Thus, the Service recognizes the white bladderpod and Zapata bladderpod as Physaria pallida and Physaria thamnophila, respectively. These changes do not affect the range or endangered status of white bladderpod or Zapata bladderpod, or, for Zapata bladderpod, its designated critical habitat.

Required Determinations

National Environmental Policy Act

We have determined that environmental assessments and environmental impact statements, as defined under the authority of the National Environmental Policy Act of 1969 (42 U.S.C. 4321 et seq.), need not be prepared in connection with regulations issued pursuant to section 4(a) of the ESA. We published a notice outlining our reasons for this determination in the Federal Register on October 25, 1983 (43 FR 49244). Even if NEPA were to apply, this amendment of the regulations is purely administrative in nature, and therefore is categorically excluded under the Department of the Interior's NEPA procedures in 43 CFR 46.210(i); no exceptional circumstances apply.

Clarity of the Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To help us to revise this rule, your comments should be as specific as possible.

References Cited

A list of the references cited in this direct final rule is provided in Docket No. FWS-R2-ES-2021-0044 at https://www.regulations.gov or upon request from the appropriate contact person (see FOR FURTHER INFORMATION CONTACT).

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. Amend § 17.11(h), the List of Endangered and Threatened Wildlife:

a. Under Mammals, by revising the entries for “Jaguarundi, Gulf Coast”, “Jaguarundi, Sinaloan”, and “Squirrel, Mount Graham red”;

b. Under Birds, by:

i. Removing the entry for “Rail, Yuma Clapper” and adding in its place an entry for “Rail, Yuma Ridgway's”; and

ii. Revising the entry for “Warbler (wood), golden-cheeked”;

c. Under Amphibians, by revising the entries for “Salamander, Sonoran tiger” and “Salamander, Texas blind”;

d. Under Fishes, by revising the entry for “Minnow, loach”;

e. Under Snails, by revising the entry for “Springsnail, Koster's”;

f. Under Insects, by revising the entries for “Beetle, Helotes mold”, “Beetle, (no common name) [Rhadine exilis]”, and “Beetle, (no common name) [Rhadine infernalis]”; and

g. Under Arachnids, by revising the entry for “Harvestman, Cokendolpher cave”, “Meshweaver, Braken Bat Cave”, “Meshweaver, Government Canyon Bat Cave”, “Meshweaver, Madla Cave”, “Meshweaver, Robber Baron Cave”, “Spider, Government Canyon Bat Cave”, and “Spider, Tooth Cave”.

The revisions and addition read as follows:

§ 17.11 Endangered and threatened wildlife.

* * * * *

(h) * * *

Common name | Scientific name | Where listed | Status | Listing citations and applicable rules
Mammals
* * * * * * *
Jaguarundi, Gulf Coast | Puma yagouaroundi cacomitli | Wherever found | E | 41 FR 24062, 6/14/1976.
* * * * * * *
Jaguarundi, Sinaloan | Puma yagouaroundi tolteca | Wherever found | E | 41 FR 24062, 6/14/1976.
* * * * * * *
Squirrel, Mount Graham red | Tamiasciurus fremonti grahamensis | Wherever found | E | 52 FR 20994, 6/3/1987; 50 CFR 17.95(a).CH
* * * * * * *
Birds
* * * * * * *
Rail, Yuma Ridgway's | Rallus obsoletus yumanensis | U.S.A. only | E | 32 FR 4001, 3/11/1967.
* * * * * * *
Warbler (wood), golden-cheeked | Setophaga chrysoparia | Wherever found | E | 55 FR 18844, 5/4/1990; 55 FR 53153, 12/27/1990.
* * * * * * *
Amphibians
* * * * * * *
Salamander, Sonoran tiger | Ambystoma mavortium stebbinsi | Wherever found | E | 62 FR 665, 1/6/1977.
Salamander, Texas blind | Eurycea rathbuni | Wherever found | E | 32 FR 4001, 3/11/1967.
* * * * * * *
Fishes
* * * * * * *
Minnow, loach | Tiaroga cobitis | Wherever found | E | 51 FR 39468, 10/28/1986; 77 FR 10810, 2/23/2012; 50 CFR 17.95(e).CH
* * * * * * *
Snails
* * * * * * *
Springsnail, Koster's | Juturnia kosteri | Wherever found | E | 76 FR 33036, 6/7/2011; 50 CFR 17.95(f).CH
* * * * * * *
Insects
* * * * * * *
Beetle, Helotes mold | Batrisodes venyivi | Wherever found | E | 65 FR 81419, 12/26/2000; 50 CFR 17.95(i).CH
* * * * * * *
Beetle, (no common name) | Rhadine exilis | Wherever found | E | 65 FR 81419, 12/26/2000; 50 CFR 17.95(i).CH
Beetle, (no common name) | Rhadine infernalis | Wherever found | E | 65 FR 81419, 12/26/2000; 50 CFR 17.95(i).CH
* * * * * * *
Arachnids
* * * * * * *
Harvestman, Cokendolpher cave | Texella cokendolpheri | Wherever found | E | 65 FR 81419, 12/26/2000; 50 CFR 17.95(g).CH
Meshweaver, Braken Bat Cave | Cicurina venii | Wherever found | E | 65 FR 81419, 12/26/2000; 50 CFR 17.95(g).CH
Meshweaver, Government Canyon Bat Cave | Cicurina vespera | Wherever found | E | 65 FR 81419, 12/26/2000; 50 CFR 17.95(g).CH
Meshweaver, Madla Cave | Cicurina madla | Wherever found | E | 65 FR 81419, 12/26/2000; 50 CFR 17.95(g).CH
Meshweaver, Robber Baron Cave | Cicurina baronia | Wherever found | E | 65 FR 81419, 12/26/2000; 50 CFR 17.95(g).CH
* * * * * * *
Spider, Government Canyon Bat Cave | Tayshaneta microps | Wherever found | E | 65 FR 81419, 12/26/2000; 50 CFR 17.95(g).CH
* * * * * * *
Spider, Tooth Cave | Tayshaneta myopica | Wherever found | E | 53 FR 36029, 9/16/1988.
* * * * * * *

3. Amend § 17.12(h), the List of Endangered and Threatened Plants, under Flowering Plants, by:

a. Removing the entry for “Coryphantha minima”;

b. Adding, in alphabetical order, an entry for “Echinocereus arizonicus ssp. arizonicus”;

c. Removing the entries for “Echinocereus triglochidiatus var. arizonicus” and “Echinomastus mariposensis”;

d. Adding, in alphabetical order, an entry for “Escobaria minima”;

e. Removing the entries for “Lesquerella pallida” and “Lesquerella thamnophila”;

f. Adding, in alphabetical order, an entry for “Packera franciscana”;

g. Removing the first entry for “Pediocactus peeblesianus var. fickeiseniae”;

h. Removing the remaining entry for “Pediocactus peeblesianus var. fickeiseniae” and adding the entry “Pediocactus peeblesianus ssp. fickeiseniae” in its place;

i. Adding, in alphabetical order, entries for “Pediocactus peeblesianus ssp. peeblesianus”, “Physaria pallida”, “Physaria thamnophila”, and “Sclerocactus mariposensis”;

j. Removing the entry for “Senecio franciscanus”;

k. Adding, in alphabetical order, an entry for “Styrax platanifolius ssp. texanus”;

l. Removing the entry for “Styrax texanus”.

The additions read as follows:

§ 17.12 Endangered and threatened plants.

* * * * *

(h) * * *

Scientific name | Common name | Where listed | Status | Listing citations and applicable rules
Flowering Plants
* * * * * * *
Echinocereus arizonicus ssp. arizonicus | Arizona hedgehog cactus | Wherever found | E | 44 FR 61556, 10/25/1979.
* * * * * * *
Escobaria minima | Nellie's cory cactus | Wherever found | E | 44 FR 64738, 11/7/1979.
* * * * * * *
Packera franciscana | San Francisco Peaks ragwort | Wherever found | T | 48 FR 52743, 11/22/1983; 50 CFR 17.96(a).CH
* * * * * * *
Pediocactus peeblesianus ssp. fickeiseniae | Fickeisen plains cactus | Wherever found | E | 78 FR 60607, 10/1/2013; 50 CFR 17.96(a).CH
Pediocactus peeblesianus ssp. peeblesianus | Peebles Navajo cactus | Wherever found | E | 44 FR 61922, 10/26/1979.
* * * * * * *
Physaria pallida | White bladderpod | Wherever found | E | 52 FR 7424, 3/11/1987.
Physaria thamnophila | Zapata bladderpod | Wherever found | E | 64 FR 63745, 11/22/1999; 50 CFR 17.96(a).CH
* * * * * * *
Sclerocactus mariposensis | Lloyd's mariposa cactus | Wherever found | T | 44 FR 64247, 11/6/1979.
* * * * * * *
Styrax platanifolius ssp. texanus | Texas snowbells | Wherever found | E | 49 FR 40035, 10/12/1984.
* * * * * * *

§ 17.95 [Amended]

4. Amend § 17.95 by:

a. In paragraph (a), removing the heading “Mount Graham Red Squirrel (Tamiasciurus hudsonicus grahamensis)” and adding “Mount Graham red squirrel (Tamiasciurus fremonti grahamensis)” in its place; and

b. In paragraph (g), removing the heading “Government Canyon Bat Cave Spider (Neoleptoneta microps)” and adding “Government Canyon Bat Cave Spider (Tayshaneta microps)” in its place.

5. Amend § 17.96, paragraph (a), by:

a. Removing the heading “Family Asteraceae: Senecio franciscanus (San Francisco Peaks groundsel)” and adding in its place the heading “Family Asteraceae: Packera franciscana (San Francisco Peaks ragwort)”;

b. In the entry “Family Asteraceae: Packera franciscana (San Francisco Peaks ragwort)”, revising the note;

c. Removing the heading “Family Brassicaceae: Lesquerella thamnophila (Zapata bladderpod)” and adding in its place the heading “Family Brassicaceae: Physaria thamnophila (Zapata bladderpod)”; and

d. Removing the heading “Family Cactaceae: Pediocactus peeblesianus var. fickeiseniae (Fickeisen plains cactus)” and adding in its place the heading “Family Cactaceae: Pediocactus peeblesianus ssp. fickeiseniae (Fickeisen plains cactus)”.

The revision reads as follows:

§ 17.96 Critical habitat—plants.

(a) * * *

Family Asteraceae: Packera franciscana (San Francisco Peaks ragwort)

* * * * *

Note: The reference to “groundsel” on the map is equivalent to “ragwort.” Map follows:

* * * * *

Martha Williams,
Principal Deputy Director, Exercising the Delegated Authority of the Director, U.S. Fish and Wildlife Service.

[FR Doc. 2021-25549 Filed 11-24-21; 8:45 am]

BILLING CODE 4333-15-P